DEPARTMENT OF TRANSPORTATION

National Highway Traffic Safety Administration

49 CFR Parts 571, 575, 577, 582

[Docket No. NHTSA-2005-21564]

Vehicle Safety Hotline; Technical Amendment

AGENCY: National Highway Traffic Safety Administration (NHTSA), Department of Transportation.

ACTION: Final rule; technical amendment.

SUMMARY: This document contains technical amendments to Part 571, Federal motor vehicle safety standards; Part 575, Consumer information; Part 577, Defect and noncompliance notification; and Part 582, Insurance cost information regulation. Specifically, we are updating the telephone number that should be used to reach NHTSA's Vehicle Safety Hotline, and adding our web address. This amendment updates the pertinent contact information without making any substantive changes to our regulations.

DATES: The technical amendments to parts 571, 575, and 582 are effective June 21, 2006. The technical amendment to Part 577 is effective July 21, 2005. Voluntary compliance is permitted before that time.

FOR FURTHER INFORMATION CONTACT: Mr. George Feygin, Office of Chief Counsel (Telephone: 202-366-2992) (Fax: 202-366-3820); NHTSA, 400 Seventh Street, SW., Washington, DC 20590.

SUPPLEMENTARY INFORMATION: In several regulations, NHTSA specifies that vehicle manufacturers, child seat manufacturers, or automobile dealers must provide the telephone number for our Vehicle Safety Hotline so that consumers concerned about safety recalls or potential defects could contact this agency. That telephone number has changed. This document amends the relevant sections of the CFR to correct the telephone number and to add our web address so that consumers can access the safety recall and defect information online. We are also changing the text in the Part 582 information form to reflect our current New Car Assessment Program efforts.

This technical amendment will not impose or relax any substantive requirements or burdens on manufacturers. Except for Part 577, we are providing a lead-time of one year in order to afford affected parties time to update the relevant contact information where necessary. Therefore, NHTSA finds for good cause that any notice and opportunity for comment on these correcting amendments are not necessary.

In consideration of the foregoing, this document amends the CFR by updating the contact information for the Vehicle Safety Hotline.

List of Subjects in 49 CFR Parts 571, 575, 577, 582

Consumer protection; Insurance; Motor vehicles; Motor vehicle safety; Reporting and recordkeeping requirements; Tires.

49 CFR Parts 571, 575, 577, 582 are amended by making the following technical amendments:

PART 571—FEDERAL MOTOR VEHICLE SAFETY STANDARDS

1. The authority citation continues to read as follows:

Authority: 49 U.S.C. 322, 2011, 30115, 30166 and 30177; delegation of authority at 49 CFR 1.50.

2. Section 571.213 is amended by revising sections S5.5.2(m), S5.5.5(k), S5.6.1.7, and S5.6.2.2 to read as follows:

§ 571.213 Standard No. 213; Child restraint systems.

* * * * *

S5.5.2 * * *

(m) The following statement, inserting an address and telephone number: “Child restraints could be recalled for safety reasons. You must register this restraint to be reached in a recall. Send your name, address and the restraint's model number and manufacturing date to (insert address) or call (insert telephone number). For recall information, call the U.S. Government's Vehicle Safety Hotline at 1-888-327-4236 (TTY: 1-800-424-9153), or go to http://www.NHTSA.gov.”

* * * * *

(k) The following statement, inserting an address and telephone number: “Child restraints could be recalled for safety reasons. You must register this restraint to be reached in a recall. Send your name, address and the restraint's model number and manufacturing date to (insert address) or call (insert telephone number). For recall information, call the U.S. Government's Vehicle Safety Hotline at 1-888-327-4236 (TTY: 1-800-424-9153), or go to http://www.NHTSA.gov.”

* * * * *

S5.6.1.7 The instructions shall include the following statement, inserting an address and telephone number: “Child restraints could be recalled for safety reasons. You must register this restraint to be reached in a recall. Send your name, address and the restraint's model number and manufacturing date to (insert address) or call (insert telephone number). For recall information, call the U.S. Government's Vehicle Safety Hotline at 1-888-327-4236 (TTY: 1-800-424-9153), or go to http://www.NHTSA.gov.”

* * * * *

S5.6.2.2 The instructions for each built-in child restraint system other than a factory-installed restraint, shall include the following statement, inserting an address and telephone number: “Child restraints could be recalled for safety reasons. You must register this restraint to be reached in a recall. Send your name, address and the restraint's model number and manufacturing date to (insert address) or call (insert telephone number). For recall information, call the U.S. Government's Vehicle Safety Hotline at 1-888-327-4236 (TTY: 1-800-424-9153), or go to http://www.NHTSA.gov.”

* * * * *

PART 575—CONSUMER INFORMATION

3. The authority citation continues to read as follows:

Authority: 49 U.S.C. 32302, 30111, 30115, 30117, 30166, and 30168, and Pub. L. 106'414, 114 Stat. 1800; delegation of authority at 49 CFR 1.50.

4. Section 575.6 is amended by revising the fourth paragraph of section 2(i) to read as follows:

§ 575.6 Requirements.

* * * * *

(2)(i) * * *

To contact NHTSA, you may call the Vehicle Safety Hotline toll-free at 1-888-327-4236 (TTY: 1-800-424-9153); go to http://www.safercar.gov; or write to: Administrator, NHTSA, 400 Seventh Street, SW., Washington, DC 20590. You can also obtain other information about motor vehicle safety from http://www.safercar.gov.

* * * * *

PART 577—DEFECT AND NONCOMPLIANCE NOTIFICATION

5. The authority citation continues to read as follows:

Authority: 49 U.S.C. 30102, 30103, 30116'30121, 30166; delegations of authority at 49 CFR 1.50 and 49 CFR 501.8.

6. Section 577.5 is amended by revising paragraph (g)(1)(vii) to read as follows:

§ 577.5 Notification pursuant to a manufacturer's decision.

* * * * *

(g) * * *

(1) * * *

(vii) A statement informing the owner that he or she may submit a complaint to the Administrator, National Highway Traffic Safety Administration, 400 Seventh Street, SW., Washington, DC 20590; or call the toll-free Vehicle Safety Hotline at 1-888-327-4236 (TTY: 1-800-424-9153); or go to http://www.safercar.gov, if the owner believes that:

* * * * *

PART 582—INSURANCE COST INFORMATION REGULATION

1. The authority citation continues to read as follows:

Authority: 49 U.S.C. 32303; delegation of authority at 49 CFR 1.50(f).

2. Section 582.5 is amended by revising the second paragraph after “Please Note:” to read as follows:

§ 582.5 Information form.

* * * * *

Test data relating to vehicle crashworthiness and rollover ratings are available from NHTSA's New Car Assessment Program (NCAP). NCAP test results demonstrate relative frontal and side crash protection in new vehicles, and relative rollover resistance. Information on vehicles that NHTSA has tested in the NCAP program can be obtained from http://www.safercar.gov or by calling NHTSA's toll-free Vehicle Safety Hotline at 1-888-327-4236 (TTY: 1-800-424-9153).

* * * * *

Issued: June 14, 2005.
Stephen R. Kratzke,
Associate Administrator for Rulemaking.

[FR Doc. 05-12114 Filed 6-20-05; 8:45 am]

BILLING CODE 4910-59-P